DEPARTMENT OF LABOR

Employment and Training Administration

[TA-W-40,548 and TA-W-40,458A]

Handler Textile, a Division of Duro Industries, Inc., Stone Mountain, GA; and Duro Industries Sales Corporation, A Division of Duro Industries, Inc., Rochester, NY; Dismissal of Application for Reconsideration

Pursuant to 29 CFR 90.18(C) an application for administrative reconsideration was filed with the Director of the Division of Trade Adjustment Assistance for workers at Handler Textile, a Division of Duro Industries, Inc., Stone Mountain, Georgia and Duro Industries Sales Corporation, a Division of Duro Industries, Inc., Rochester, New York. The application contained no new substantial information which would bear importantly on the Department's determination. Therefore, dismissal of the application was issued.

TA-W-40,458; Handler Textile, a Division of Duro Industries, Inc., Stone Mountain, Georgia and

TA-W-40,458A; Duro Industries Sales Corporation, a Division of Duro Industries, Inc., Rochester, New York (July 30, 2002)

Signed at Washington, DC this 5th day of August, 2002.
Edward A. Tomchick,
Director, Division of Trade Adjustment Assistance.

[FR Doc. 02-20194 Filed 8-8-02; 8:45 am]

BILLING CODE 4510-30-P